DEPARTMENT OF COMMERCE

National Oceanic and Atmospheric Administration

[RTID 0648-XE731]

North Pacific Fishery Management Council; Public Meeting

AGENCY: National Marine Fisheries Service (NMFS), National Oceanic and Atmospheric Administration (NOAA), Commerce.

ACTION: Notice of webconference.

SUMMARY: The North Pacific Fishery Management Council (Council)'s Enforcement Committee will hold a webconference on Thursday, March 27, 2025.

DATES: The Enforcement Committee will meet on Thursday, March 27, 2025, from 10 a.m. to 12 p.m., Alaska Time.

ADDRESSES: The meeting will be by webconference. Join online through the link at https://meetings.npfmc.org/Meeting/Details/3085.

Council address: North Pacific Fishery Management Council, 1007 W 3rd Ave., Anchorage, AK 99501-2252; telephone: (907) 271-2809. Instructions for attending the meeting via webconference are given under SUPPLEMENTARY INFORMATION, below.

FOR FURTHER INFORMATION CONTACT: Taylor Holman, Council staff; phone: (907) 271-2809; email: taylor.holman@noaa.gov. For technical support, please contact our administrative staff, email: npfmc.admin@noaa.gov.

SUPPLEMENTARY INFORMATION:

Agenda

Thursday, March 27, 2025

The Enforcement Committee will review the Council's Small sablefish release analysis, the Maximum Retainable Amount (MRA) adjustments analysis, and other business including the Enforcement Committee Terms of Reference. The Small sablefish release analysis evaluates a proposed management measure to allow sablefish IFQ/CDQ harvesters using fixed gear in the BSAI and GOA to carefully release small sablefish. The MRA adjustment analysis evaluates proposed management measures to revise the MRA regulations to clarify and/or revise (1) the definition of a fishing trip, (2) calculations for MRAs, and (3) applications of MRAs.

The agenda is subject to change, and the latest version will be posted at https://meetings.npfmc.org/Meeting/Details/3085 prior to the meeting, along with meeting materials.

Connection Information

You can attend the meeting online using a computer, tablet, or smart phone; or by phone only. Connection information will be posted online at: https://meetings.npfmc.org/Meeting/Details/3085. For technical support, please contact our administrative staff, email: npfmc.admin@noaa.gov.

Public Comment

Public comment letters will be accepted and should be submitted electronically to https://meetings.npfmc.org/Meeting/Details/3085.

Authority: 16 U.S.C. 1801 et seq.

Dated: March 6, 2025.
Rey Israel Marquez,
Acting Deputy Director, Office of Sustainable Fisheries, National Marine Fisheries Service.

[FR Doc. 2025-03873 Filed 3-10-25; 8:45 am]

BILLING CODE 3510-22-P